NATIONAL FOUNDATION ON THE ARTS AND THE HUMANITIES

Meetings of Humanities Panel

AGENCY: National Endowment for the Humanities.

ACTION: Notice of meetings.

SUMMARY: The National Endowment for the Humanities will hold twelve meetings of the Humanities Panel, a federal advisory committee, during November, 2017. The purpose of the meetings is for panel review, discussion, evaluation, and recommendation of applications for financial assistance under the National Foundation on the Arts and Humanities Act of 1965.

DATES: See SUPPLEMENTARY INFORMATION section for meeting dates. The meetings will open at 8:30 a.m. and will adjourn by 5:00 p.m. on the dates specified below.

ADDRESSES: The meetings will be held at Constitution Center at 400 7th Street SW., Washington, DC 20506, unless otherwise indicated.

FOR FURTHER INFORMATION CONTACT: Elizabeth Voyatzis, Committee Management Officer, 400 7th Street SW., Room 4060, Washington, DC 20506; (202) 606-8322; evoyatzis@neh.gov.

SUPPLEMENTARY INFORMATION: Pursuant to section 10(a)(2) of the Federal Advisory Committee Act (5 U.S.C. App.), notice is hereby given of the following meetings:

1. Date: November 1, 2017. This meeting will discuss applications on the subjects of U.S. History and Culture: Military and Political History, for the Humanities Collections and Reference Resources grant program, submitted to the Division of Preservation and Access.

2. Date: November 2, 2017. This meeting will discuss applications on the subjects of U.S. History and Culture: Regional, State, and Local History, for the Humanities Collections and Reference Resources grant program, submitted to the Division of Preservation and Access.

3. Date: November 2, 2017. This meeting will discuss applications on the subjects of U.S. History and Culture, for the Public Humanities Projects—Community Conversations grant program, submitted to the Division of Public Programs.

4. Date: November 3 2017. This meeting will discuss applications on the subject of Literature, for the Humanities Collections and Reference Resources grant program, submitted to the Division of Preservation and Access.

5. Date: November 6, 2017. This meeting will discuss applications on the subject of Cultural History, for Media Projects: Production Grants, submitted to the Division of Public Programs.

6. Date: November 7, 2017. This meeting will discuss applications on the subject of Media Studies, for the Humanities Collections and Reference Resources grant program, submitted to the Division of Preservation and Access.

7. Date: November 8, 2017. This meeting will discuss applications on the subjects of Ecology and Health, for the Public Humanities Projects—Community Conversations grant program, submitted to the Division of Public Programs.

8. Date: November 9, 2017. This meeting will discuss applications on the subjects of Art and Literature, for the Public Humanities Projects—Community Conversations grant program, submitted to the Division of Public Programs.

9. Date: November 9, 2017. This meeting will discuss applications on the subject of American Studies, for the Humanities Collections and Reference Resources grant program, submitted to the Division of Preservation and Access.

10. Date: November 13, 2017. This meeting will discuss applications for the Humanities Open Book Program, submitted to the Office of Digital Humanities.

11. Date: November 28, 2017. This meeting will discuss applications on the subject of Indigenous Studies, for the Humanities Collections and Reference Resources grant program, submitted to the Division of Preservation and Access.

12. Date: November 30, 2017. This meeting will discuss applications on the subject of World Studies: Pre-Modern Era, for the Humanities Collections and Reference Resources grant program, submitted to the Division of Preservation and Access.

Because these meetings will include review of personal and/or proprietary financial and commercial information given in confidence to the agency by grant applicants, the meetings will be closed to the public pursuant to sections 552b(c)(4) and 552b(c)(6) of Title 5, U.S.C., as amended. I have made this determination pursuant to the authority granted me by the Chairman's Delegation of Authority to Close Advisory Committee Meetings dated April 15, 2016.

Dated: October 10, 2017.
Elizabeth Voyatzis,
Committee Management Officer.

[FR Doc. 2017-22208 Filed 10-12-17; 8:45 am]

BILLING CODE 7536-01-P